DEPARTMENT OF HEALTH AND HUMAN SERVICES

Centers for Disease Control and Prevention

[60Day-00-26]

Proposed Data Collections Submitted for Public Comment and Recommendations

In compliance with the requirement of section 3506(c)(2)(A) of the Paperwork Reduction Act of 1995, the Center for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC Assistant Reports Clearance Officer, 1600 Clifton Road, MS-D24, Atlanta, GA 30333. Written comments should be received within 60 days of this notice.

Proposed Project

1. Information Collection Procedures for Requesting Public Health Assessments—(0923-0002)—EXTENSION—The Agency for Toxic Substances and Disease Registry (ATSDR) is announcing the request for extension of the OMB approval for the Information Collection Procedures for Requesting Public Health Assessments. ATSDR is authorized to accept and respond to petitions from the public that request public health assessments of sites where there is a threat of exposure to hazardous substances (42 U.S.C. 9604(i)(6)(B)). The Agency conducts public health assessments of releases or facilities for which individuals provide information that people have been exposed to a hazardous substance, and for which the source of such exposure is a release, as defined under CERCLA. The general administrative procedures for conducting public health assessments, including the information that must be submitted with each request, is described at 42 CFR 90.3, 90.4, and 90.5. Procedures for responding to petitions, decision criteria, and methodology for determining priorities may be found at 57 FR 37382-89. There is no cost to the respondents other than their time.

ATSDR anticipates approximately 36 requests will be received each year. This estimate is based on the number of requests received since the enabling legislation was enacted and the expressions of interest (via telephone, letter, etc.) from members of the public, attorneys, and industry representatives.

Respondents | Annual number of respondents | No. of responses/respondent | Avg. hourly burden/response | Total burden hours
General public | 36 | 1 | .50 | 18

2. National Survey of Family Growth, Cycle 6 Pretest (0920-0314)—Reinstatement—The National Center for Health Statistics (NCHS)—The National Survey of Family Growth (NSFG) has been conducted periodically by the National Center for Health Statistics (NCHS) since 1973—in 1973, 1976, 1982, 1988, and 1995. The purpose of the NSFG is to provide national statistics on “family formation, growth, and dissolution” (Section 306 of the Public Health Service Act). This includes data on factors affecting birth, pregnancy rates, and family formation—such as sexual activity, marriage, divorce, cohabitation, contraception, infertility, miscarriage, and wanted and unwanted births. The social, economic (e.g., education, income, and work), and health factors (such as low birth weight and receipt of health care) associated with them are also collected. The target universe of the NSFG has always been women in the civilian non-institutional population of reproductive age (15-44). The population in this pretest includes an independent sample of men (15-49), in order to collect data related to male fertility, marriage and divorce, and parenting, as well as data to measure the risk of HIV (the virus that causes AIDS) and other sexually transmitted diseases.

NSFG data are used by NCHS, the National Institute for Child Health and Human Development (NICHD), the Office of Population Affairs, the CDC HIV Prevention program, the Office of the Assistant Secretary for Planning and Evaluation (OASPE/DHHS), and the Children's Bureau. Specific uses include the Healthy People 2000 and 2010 objectives, reporting to Congress required by the 1996 Personal Responsibility and Work Opportunity Act (Sections 905 and 906), the DHHS Fatherhood Initiative, and the National Campaign to Prevent Teen Pregnancy, among others. Data are published by NCHS, in professional journals, used by private academic and nonprofit researchers, and cited by journalists and others.

The NSFG Cycle 6 pretest will include interviews with about 600 males and 600 females and will test a variety of procedures to improve the quality and usefulness of the data. The interviews are conducted in person by trained female interviewers in respondents homes. Interviews average 60 minutes for males and 80 minutes for females. Remuneration is proposed, and will be the subject of an experiment in the pretest. The pretest is in preparation for a main study that will include interviews with 7,200 males and 11,800 females in 2001 or 2002. There is no cost to the respondent.

Respondents | No. of respondents | No. of responses/respondent | Avg. burden per responses (in hrs.) | Response burden (in hrs.)
Screening | 2000 | 1 | 5/60 | 167
Interviewing:
Males | 600 | 1 | 1 | 600
Females | 600 | 1 | 80/60 | 800
Verification | 200 | 1 | 5/60 | 17
Cognitive | 100 | 1 | 1 | 100
Pretest Total |  |  |  | 1,684

3. National Nosocomial Infections Surveillance (NNIS) system—Renwal—National Center for Infectious Disease (NCID). The most recent renewal of the NNIS system (OMB No. 0920-0012) was in 1997. The NNIS system, which was instituted in 1970, is an ongoing surveillance system currently involving 315 hospitals that voluntarily report their nosocomial infections data to the Centers for Disease Control and Prevention (CDC), who aggregates the data into a national database. The data are collected using surveillance protocols developed by CDC for high risk patient groups (ICU, high-risk nursery, and surgical patients). Instructional manuals, training of surveillance personnel, and a computer surveillance software are among the support that CDC provides without cost to participating hospitals to ensure the reporting of accurate and uniform data.

The purpose of the NNIS system is to provide national data on the incidence of nosocomial infections and their risk factors, and on emerging antibiotic resistance. The data are used to determine the magnitude of various nosocomial infection problems and trends in infection rates among patients with similar risks. They are used to detect changes in the epidemiology of nosocomial infections resulting from new medical therapies and changing patient risks. New to the NNIS system is the monitoring of antibiotic resistance and antimicrobial use in groups of patients to describe the epidemiology of antibiotic resistance and to understand the role of antimicrobial therapy to this growing problem. The NNIS system can also serve as a sentinel system for the detection of nosocomial infection outbreaks in the event of national distribution of a contaminated medical product or device.

The respondent burden is not the same in each hospital since the hospitals can select from a wide variety of surveillance options. A typical hospital will monitor patients for infections in two ICUs and surgical site infections following 3 surgical operations. The respondent burden includes the time and cost to collect data on nosocomial infections in patients in these groups and the denominator data to characterize risk factors in the patients who are being monitored; to enter the data as well as a surveillance plan into the surveillance software; to send the data to CDC by electronic transmission; and complete a short annual survey and administrative forms. The respondent burden is expected to increase since an estimated 10 hospitals are expected to enroll into the NNIS system each year. There is no cost to the respondent.

Year | Number of respondents | Number of responses/respondent | Average burden/response (in hours) | Total burden (in hours)
2000 | 315 | 1 | 950 | 290,260
2001 | 325 | 1 | 923 | 299,985
2002 | 335 | 1 | 967 | 309,979
Total |  |  |  | 900,224

4. Audience-Derived Input Regarding the Usability of the Main Web Site for the Centers for Disease Control and Prevention—New—As the nations lead agency for health promotion and disease prevention, the Centers for Disease Control and Prevention (CDC) serves as a role model for incorporating health communication into an overall strategy of targeting audiences for intervention. In recent years, the Internet and other new technologies have opened up many new possibilities for communicating messages about health. Although these new technologies have yielded great opportunities for reaching diverse populations, they have also created new challenges. Increased options permit the general public greater freedom to be selective about the types and sources of information to which they give their attention; greater choice leads to increased expectations for greater sophistication. As the technology stakes are raised, the public's desire for information to be interactive, stimulating, accurate, up-to-date, and individually tailored to their needs will continue to grow.

The main web site (www.cdc.gov) maintained by the CDC has evolved rapidly since its inception in 1994. Although the CDC has sought to continually meet the information needs of its users, this task has become more difficult as these needs have increased or changed and new audiences have emerged. The CDC is currently seeking to evaluate the current site and assess its effectiveness in meeting the needs of its target audiences.

The goal of the CDC's Web Site Redesign & Continuous Improvement Project is to obtain input from both current and potential users. An on-line survey will be conducted with general public Internet users to explore how, when, and why users search the Web to obtain health information; the types of information sought; characteristics that are important to them in a health-related web site; and sites they have visited. Additionally, users exiting the CDC web site will have the opportunity to complete a survey, known as a bounceback form, that will ask them about their reactions to the site. Information on the estimated annual respondent burden is shown in the table below. The total cost to respondents is $0.00.

Respondents | Number of respondents | Number of responses/respondent | Avg. burden per response (in hrs.) | Total burden (in hrs.)
General public responding to on-line survey | 1000 | 1 | .25 | 250
Users of www.cdc.gov responding to a bounce back form | 10,000 | 1 | .20 | 2,000
TOTAL |  |  |  | 2,250

Dated: February 28, 2000.
Charles Gollmar,
Acting Associate Director for Policy, Planning, and Evaluation, Centers for Disease Control and Prevention (CDC).

[FR Doc. 00-5131 Filed 3-2-00; 8:45 am]

BILLING CODE 4163-18-P